DEPARTMENT OF ENERGY

Federal Energy Regulatory Commission

[Docket No. RM96-1-020]

Standards For Business Practices of Interstate Natural Gas Pipelines

October 23, 2002.

In the matter of: RP02-492-001, RP02-414-001, RP02-454-001, RP02-474-001, RP02-475-001, RP02-461-001, RP02-423-002, RP02-456-002, RP02-493-001, RP02-449-001, RP02-491-001, RP02-464-001, RP02-431-001, RP02-490-001, RP02-476-001, RP02-478-002, RP02-467-001, P02-473-001, RP02-457-001, RP02-484-001, RP02-451-001, RP02-435-001, PG&E Gas Transmission, RP02-455-001, RP02-462-001, RP02-432-001, RP02-494-001, RP02-471-001, RP02-443-001 and RP02-479-002, (Not Consolidated); Algonquin Gas Transmission Company, Alliance Pipeline L.P., Black Marlin Pipeline Company, Columbia Gas Transmission Company, Columbia Gulf Transmission Company, Crossroads Pipeline Company, Dauphin Island Gathering Company, Discovery Gas Transmission LLC, East Tennessee Natural Gas Company, Eastern Shore Natural Gas Company, Egan Hub Partners, L.P., Granite State Gas Transmission, Inc., Gulf States Transmission Corporation, Gulfstream Natural Gas System, Iroquois Gas Transmission System LP, Midwestern Gas Transmission Company, Mississippi Canyon Gas Pipeline, LLC, Nautilus Pipeline Company, North Baja Pipeline, LLC, Northern Border Pipeline Company, Northern Natural Gas Company, Petal Gas Storage, L.L.C., PG&E Gas Transmission, Northwest Corporation, Southern Natural Gas Company, Southern LNG Inc., Texas Eastern Transmission, LP, Tuscarora Gas Transmission Company, USG Pipeline Company, and Vector Pipeline L.P., Notice of Compliance Filing.

Take notice that the above-referenced pipelines made filings to comply with the Commission's orders in the above-captioned docket nos. These revised tariff sheets are to be effective October 1, 2002. These filings address compliance with Order 587-O.¹

¹ Standards for Business Practices of Interstate Natural Gas Pipelines, Order No. 587-O, 67 FR 30788 (May 8, 2002), III FERC Stats. & Regs. Regulations Preambles, 31,129 (May 1, 2002).

In Order No. 587-O, the Commission required pipelines to file revised tariff sheets to comply with Version 1.5 of the consensus industry standards, promulgated by the Wholesale Gas Quadrant of the North American Energy Standards Board (NAESB), formerly the Gas Industry Standards Board. The Commission directed that pipelines implement these standards by filing revised tariff sheets no later than August 1, 2002, to become effective October 1, 2002 implementation date required by Order No. 587-O.

The Commission issued orders in each of the captioned dockets on the pipelines initial filings to comply with Order No. 587-O. Each of the pipelines has filed to comply with the applicable Commission's order.

Any person desiring to protest in a proceeding must file a separate protest in each docket.

Any person desiring to protest said filing should file a protest with the Federal Energy Regulatory Commission, 888 First Street, NE., Washington, DC 20426, in accordance with Section 385.211 of the Commission's Rules and Regulations. All such protests must be filed on or before October 30, 2002. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-27459 Filed 10-28-02; 8:45 am]

BILLING CODE 6717-01-P